DEPARTMENT OF DEFENSE

GENERAL SERVICES ADMINISTRATION

[OMB Control No. 3090-0044]

Proposed Collection Application/Permit for Use of Space in Public Buildings and Grounds

AGENCY: General Services Administration (GSA, Public Buildings Service.

ACTION: Notice of an emergency reinstatement and request for public comments of collection (3090-0044).

SUMMARY: Under the provisions of the paperwork Reduction Act of 1995 (44 U.S.C. chapter 35), the General Services Administration (GSA) is requesting the Office of Management and Budget (OMB) to reinstate an information collection that pertains to GSA Form 3453, Application/Permit for Use of Space in Public Buildings and Grounds. This notice indicates GSA's intent to request an extension by 3 years of OMB's emergency reinstatement of this collection and to request public review and comment on the collection.

Public comments are particularly invited on: Whether this collection of information is necessary for the proper performance of GSA use of applications/permits for use of space in a GSA building, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comments may be submitted on or before July 8, 2002.

FOR FURTHER INFORMATION CONTACT: Charlene Heeter, Public Buildings Service, GSA (202) 208-0214.

ADDRESSES: Comments regarding this burden estimate or any other aspect of this collection of information, including suggestions for reducing this burden, should be submitted to Stephanie Morris, General Services Administration, Regulatory Secretariat, 1800 F Street, NW, Room 4035, Washington, DC 20405.

SUPPLEMENTARY INFORMATION:

A. Purpose

GSA will be requesting the Office of Management and Budget (OMB) to review and approve information collection, 3090-0044, Application/Permit for Use of Space in Public Buildings and Grounds. The general public uses this GSA Form to request the use of public space in Federal buildings for cultural, educational, or recreational activities. A copy, sample, or description of any material or item proposed for distribution or display must also accompany this request.

B. Annual Reporting Burden

Respondents: 8,000.

Responses Per Respondent: 1.

Hours Per Response: 0.05.

Total Burden Hours: 400.

Obtaining Copies of Proposals: Requester may obtain a copy of the proposal from the General Services Administration, Acquisition Policy Division (MVP), 1800 F Street, NW, Room 4035, Washington, DC 20405, telephone (202) 501-4744. Please cite OMB Control No. 3090-0044, GSA Form 3453, Application/Permit for Use of Space in Public Buildings and Grounds, in all correspondence.

Dated: April 29, 2002.
Michael W. Carlton,
Chief Information Officer (I).

[FR Doc. 02-11223 Filed 5-6-02; 8:45 am]

BILLING CODE 6820-EP-M